POSTAL SERVICE

39 CFR Part 20

International Mail: New Postal Rates and Fees

AGENCY: Postal Service.

ACTION: Final rule.

SUMMARY: The Postal Service ™ is adopting new international mail postage rates and fees. The total international rate increase is 5.9 percent. To the extent possible, the targeted increase is 5.4 percent, consistent with our domestic rate filing with the Postal Rate Commission. We are implementing this international pricing change at the same time as our domestic pricing change.

EFFECTIVE DATE: 12:01 a.m., Sunday, January 8, 2006.

FOR FURTHER INFORMATION CONTACT: Obataiye B. Akinwole at 202-268-7262, or Thomas P. Philson at 202-268-7355.

SUPPLEMENTARY INFORMATION: On September 15, 2005, the Postal Service published in the Federal Register (70 FR 54493) a notice of proposed changes in international postage rates. We requested comments by October 17, 2005, and received one comment from a private individual.

The private individual asked why the 1-ounce airmail letter-post rate is less than the rate for aerogrammes to Canada and Mexico. He envisions situations where customers might purchase aerogrammes at the full rate and alter them into airmail letter-post to secure the lower price. His solution is to print another aerogramme at the letter-post rate.

We agree that aerogramme users could possibly alter their aerogrammes to receive the lower rate. Because of the relatively low volume of aerogrammes worldwide and the relatively low potential cost savings on each altered aerogramme, however, we do not believe this practice will be common or will result in serious revenue loss. In fact, the letter-post rate to Canada and Mexico is currently below the aerogramme rate, and this rate relationship has not caused the problem noted by the private individual. In addition, printing and stocking two aerogrammes with different postage rates would be costly. We note that enclosures are not permitted in aerogrammes. We have been advised by the private individual that mailers may try to send aerogrammes with enclosures, and we will monitor the situation and take action if necessary.

List of Subjects in 39 CFR Part 20

Foreign relations, International postal services.

After reviewing and considering the comment, the Postal Service hereby adopts the following postage rates and fees and amends the International Mail Manual (IMM), which is incorporated by reference in the Code of Federal Regulations. See 39 CFR 20.1.

PART 20—[AMENDED]

1. The authority citation for 39 CFR part 20 continues to read as follows:

Authority: 5 U.S.C. 552(a); 39 U.S.C. 401, 404, 407, 408.

2. Amend the International Mail Manual (IMM) to incorporate the following postage rates and fees.

INTERNATIONAL RATES AND FEES

Global Express Guaranteed—Document Service Rates/Groups
Weight not over (lbs.) | Group 1 | Group 2 | Group 3 | Group 4 | Group 5 | Group 6 | Group 7 | Group 8
0.5 | $25.25 | $26.25 | $33.75 | $33.75 | $47.50 | $34.75 | $35.75 | $68.50
1 | 34.75 | 35.75 | 41.00 | 47.50 | 54.75 | 49.50 | 48.50 | 79.00
2 | 40.00 | 42.25 | 48.50 | 54.75 | 68.50 | 58.00 | 54.75 | 93.75
3 | 42.25 | 48.50 | 55.75 | 62.25 | 83.25 | 65.25 | 63.25 | 106.50
4 | 45.25 | 52.75 | 63.25 | 69.50 | 98.00 | 71.75 | 71.75 | 118.00
5 | 48.50 | 58.00 | 70.50 | 77.00 | 111.75 | 79.00 | 79.00 | 130.75
6 | 50.50 | 61.25 | 76.00 | 84.25 | 125.50 | 84.25 | 86.50 | 143.25
7 | 53.75 | 64.25 | 80.00 | 90.75 | 138.00 | 90.75 | 93.75 | 156.00
8 | 55.75 | 68.50 | 84.25 | 98.00 | 150.75 | 96.00 | 101.25 | 168.75
9 | 58.00 | 71.75 | 89.50 | 105.50 | 164.50 | 101.25 | 108.50 | 181.25
10 | 61.25 | 73.75 | 93.75 | 109.50 | 174.00 | 107.50 | 116.00 | 189.75
11 | 63.25 | 77.00 | 97.00 | 115.00 | 184.50 | 110.75 | 122.25 | 201.25
12 | 65.25 | 80.00 | 101.25 | 121.25 | 195.00 | 115.00 | 128.50 | 214.00
13 | 68.50 | 83.25 | 104.25 | 126.50 | 205.50 | 119.00 | 133.75 | 226.50
14 | 70.50 | 85.25 | 108.50 | 131.75 | 216.00 | 123.25 | 139.25 | 238.25
15 | 72.75 | 88.50 | 111.75 | 137.00 | 225.50 | 127.50 | 144.50 | 250.75
16 | 76.00 | 91.75 | 115.00 | 143.25 | 235.00 | 131.75 | 149.75 | 262.50
17 | 78.00 | 93.75 | 119.00 | 148.50 | 243.50 | 136.00 | 155.00 | 274.00
18 | 80.00 | 97.00 | 122.25 | 154.00 | 250.75 | 140.25 | 161.25 | 285.75
19 | 83.25 | 100.25 | 126.50 | 159.25 | 259.25 | 144.50 | 167.50 | 297.25
20 | 85.25 | 102.25 | 129.75 | 164.50 | 266.75 | 148.50 | 174.00 | 308.75
21 | 87.50 | 105.50 | 132.75 | 169.75 | 274.00 | 151.75 | 180.25 | 318.25
22 | 89.50 | 107.50 | 137.00 | 175.00 | 282.50 | 156.00 | 185.50 | 327.75
23 | 91.75 | 110.75 | 140.25 | 180.25 | 289.75 | 160.25 | 190.75 | 335.25
24 | 94.75 | 113.75 | 144.50 | 185.50 | 298.25 | 164.50 | 196.00 | 342.50
25 | 97.00 | 116.00 | 147.50 | 190.75 | 305.75 | 168.75 | 201.25 | 351.00
26 | 99.00 | 119.00 | 150.75 | 196.00 | 314.00 | 172.75 | 206.50 | 358.25
27 | 101.25 | 121.25 | 155.00 | 200.25 | 321.50 | 177.00 | 211.75 | 365.75
28 | 103.25 | 124.25 | 158.00 | 205.50 | 330.00 | 181.25 | 217.00 | 374.25
29 | 105.50 | 126.50 | 161.25 | 210.75 | 337.25 | 185.50 | 222.50 | 381.50
30 | 108.50 | 130.75 | 166.50 | 218.25 | 348.75 | 191.75 | 227.75 | 393.25
31 | 110.75 | 133.75 | 170.75 | 223.50 | 356.25 | 196.00 | 233.00 | 401.50
32 | 112.75 | 136.00 | 174.00 | 228.75 | 364.75 | 200.25 | 238.25 | 409.00
33 | 115.00 | 138.00 | 178.25 | 234.00 | 372.00 | 204.50 | 243.50 | 417.50
34 | 118.00 | 139.25 | 181.25 | 239.25 | 380.50 | 208.75 | 248.75 | 424.75
35 | 120.25 | 141.25 | 184.50 | 244.50 | 389.00 | 213.00 | 254.00 | 433.25
36 | 122.25 | 143.25 | 188.75 | 248.75 | 396.25 | 217.00 | 259.25 | 440.50
37 | 124.25 | 145.50 | 191.75 | 254.00 | 404.75 | 221.25 | 264.50 | 449.00
38 | 126.50 | 147.50 | 196.00 | 259.25 | 412.00 | 225.50 | 269.75 | 456.50
39 | 128.50 | 149.75 | 199.25 | 264.50 | 419.50 | 229.75 | 275.00 | 463.75
40 | 130.75 | 151.75 | 202.25 | 269.75 | 425.75 | 234.00 | 280.25 | 472.25
41 | 132.75 | 154.00 | 206.50 | 275.00 | 433.25 | 238.25 | 285.75 | 479.50
42 | 137.00 | 156.00 | 209.75 | 280.25 | 440.50 | 242.50 | 291.00 | 488.00
43 | 139.25 | 158.00 | 214.00 | 285.75 | 448.00 | 246.75 | 296.25 | 495.50
44 | 141.25 | 159.25 | 217.00 | 291.00 | 455.25 | 250.75 | 301.50 | 503.75
45 | 144.50 | 161.25 | 221.25 | 295.00 | 462.75 | 255.00 | 306.75 | 511.25
46 | 146.50 | 163.25 | 224.50 | 300.50 | 470.00 | 259.25 | 312.00 | 518.50
47 | 148.50 | 164.50 | 227.75 | 305.75 | 476.50 | 263.50 | 317.25 | 527.00
48 | 150.75 | 166.50 | 232.00 | 311.00 | 483.75 | 267.75 | 322.50 | 534.50
49 | 154.00 | 168.75 | 235.00 | 316.25 | 491.25 | 272.00 | 327.75 | 542.75
50 | 156.00 | 171.75 | 241.25 | 324.75 | 503.75 | 278.25 | 333.00 | 556.50
51 | 160.25 | 174.00 | 244.50 | 330.00 | 511.25 | 278.25 | 338.25 | 572.25
52 | 162.25 | 176.00 | 248.75 | 335.25 | 518.50 | 286.75 | 343.50 | 572.25
53 | 164.50 | 178.25 | 252.00 | 340.50 | 526.00 | 291.00 | 348.75 | 589.25
54 | 167.50 | 179.25 | 256.00 | 345.75 | 533.25 | 295.00 | 354.25 | 589.25
55 | 168.75 | 181.25 | 259.25 | 351.00 | 540.75 | 298.25 | 359.50 | 603.00
56 | 170.75 | 182.25 | 263.50 | 356.25 | 548.00 | 303.50 | 364.75 | 603.00
57 | 171.75 | 184.50 | 266.75 | 361.50 | 555.50 | 306.75 | 370.00 | 615.50
58 | 172.75 | 185.50 | 269.75 | 366.75 | 561.75 | 312.00 | 375.25 | 615.50
59 | 175.00 | 187.50 | 274.00 | 372.00 | 569.25 | 315.25 | 380.50 | 629.25
60 | 176.00 | 189.75 | 277.25 | 377.25 | 576.50 | 320.50 | 385.75 | 629.25
61 | 178.25 | 190.75 | 281.50 | 382.50 | 584.00 | 323.50 | 391.00 | 645.00
62 | 179.25 | 191.75 | 284.50 | 386.75 | 590.25 | 330.00 | 396.25 | 645.00
63 | 180.25 | 194.00 | 288.75 | 392.00 | 598.75 | 332.00 | 401.50 | 660.75
64 | 181.25 | 195.00 | 292.00 | 397.25 | 601.75 | 338.25 | 406.75 | 660.75
65 | 182.25 | 197.00 | 296.25 | 402.75 | 613.50 | 340.50 | 412.00 | 676.75
66 | 183.50 | 198.25 | 299.25 | 408.00 | 613.50 | 346.75 | 417.50 | 676.75
67 | 184.50 | 200.25 | 302.50 | 413.25 | 625.00 | 348.75 | 422.75 | 692.50
68 | 185.50 | 202.25 | 306.75 | 418.50 | 627.25 | 355.25 | 428.00 | 692.50
69 | 186.50 | 203.50 | 310.00 | 423.75 | 636.50 | 357.25 | 433.25 | 708.25
70 | 187.50 | 204.50 | 314.00 | 429.00 | 636.50 | 363.75 | 438.50 | 708.25

Global Express Guaranteed—Non-Document Service Rates/Groups
Weight not over (lbs.) | Group 1 | Group 2 | Group 3 | Group 4 | Group 5 | Group 6 | Group 7 | Group 8
1 | $38.00 | $40.00 | $46.50 | $50.50 | $62.25 | $54.75 | $58.00 | $86.50
2 | 43.25 | 47.50 | 53.75 | 58.00 | 76.00 | 63.25 | 61.25 | 101.25
3 | 46.50 | 53.75 | 61.25 | 67.50 | 90.75 | 70.50 | 66.50 | 115.00
4 | 49.50 | 58.00 | 68.50 | 74.75 | 105.50 | 77.00 | 73.75 | 126.50
5 | 52.75 | 63.25 | 76.00 | 82.25 | 119.00 | 84.25 | 81.25 | 141.25
6 | 54.75 | 66.50 | 81.25 | 89.50 | 132.75 | 89.50 | 88.50 | 154.00
7 | 58.00 | 69.50 | 85.25 | 96.00 | 145.50 | 96.00 | 96.00 | 166.50
8 | 60.00 | 74.75 | 90.75 | 103.25 | 158.00 | 101.25 | 103.25 | 179.25
9 | 62.25 | 78.00 | 96.00 | 110.75 | 171.75 | 106.50 | 110.75 | 191.75
10 | 65.25 | 81.25 | 100.25 | 117.00 | 186.50 | 112.75 | 118.00 | 200.25
11 | 67.50 | 84.25 | 105.50 | 122.25 | 197.00 | 118.00 | 124.25 | 217.00
12 | 69.50 | 87.50 | 109.50 | 128.50 | 207.75 | 122.25 | 129.75 | 229.75
13 | 72.75 | 90.75 | 112.75 | 133.75 | 218.25 | 126.50 | 136.00 | 242.50
14 | 74.75 | 92.75 | 117.00 | 139.25 | 228.75 | 130.75 | 141.25 | 254.00
15 | 77.00 | 96.00 | 120.25 | 144.50 | 241.25 | 138.00 | 146.50 | 266.75
16 | 80.00 | 99.00 | 123.25 | 150.75 | 250.75 | 142.25 | 151.75 | 278.25
17 | 82.25 | 102.25 | 127.50 | 156.00 | 259.25 | 146.50 | 157.00 | 289.75
18 | 84.25 | 105.50 | 130.75 | 161.25 | 266.75 | 150.75 | 163.25 | 301.50
19 | 87.50 | 108.50 | 135.00 | 166.50 | 275.00 | 155.00 | 169.75 | 313.00
20 | 91.75 | 112.75 | 138.00 | 174.00 | 282.50 | 159.25 | 176.00 | 324.75
21 | 93.75 | 116.00 | 141.25 | 179.25 | 289.75 | 162.25 | 182.25 | 334.00
22 | 96.00 | 118.00 | 145.50 | 184.50 | 298.25 | 166.50 | 187.50 | 343.50
23 | 98.00 | 121.25 | 148.50 | 189.75 | 305.75 | 170.75 | 193.00 | 351.00
24 | 101.25 | 124.25 | 152.75 | 195.00 | 314.00 | 175.00 | 198.25 | 358.25
25 | 103.25 | 126.50 | 156.00 | 200.25 | 321.50 | 179.25 | 203.50 | 366.75
26 | 105.50 | 128.50 | 161.25 | 205.50 | 330.00 | 183.50 | 208.75 | 374.25
27 | 107.50 | 129.75 | 165.50 | 209.75 | 337.25 | 187.50 | 214.00 | 381.50
28 | 109.50 | 132.75 | 168.75 | 215.00 | 345.75 | 191.75 | 219.25 | 390.00
29 | 111.75 | 135.00 | 171.75 | 220.25 | 353.00 | 196.00 | 224.50 | 397.25
30 | 115.00 | 139.25 | 177.00 | 227.75 | 364.75 | 202.25 | 229.75 | 409.00
31 | 117.00 | 142.25 | 181.25 | 233.00 | 372.00 | 206.50 | 235.00 | 417.50
32 | 119.00 | 144.50 | 184.50 | 238.25 | 380.50 | 210.75 | 240.25 | 424.75
33 | 121.25 | 146.50 | 188.75 | 243.50 | 387.75 | 215.00 | 245.50 | 433.25
34 | 124.25 | 148.50 | 191.75 | 248.75 | 396.25 | 219.25 | 250.75 | 440.50
35 | 126.50 | 150.75 | 195.00 | 254.00 | 404.75 | 223.50 | 256.00 | 454.25
36 | 128.50 | 152.75 | 199.25 | 258.25 | 412.00 | 227.75 | 261.50 | 461.75
37 | 130.75 | 155.00 | 202.25 | 263.50 | 420.50 | 232.00 | 266.75 | 470.00
38 | 132.75 | 157.00 | 206.50 | 268.75 | 428.00 | 236.00 | 272.00 | 477.50
39 | 135.00 | 159.25 | 209.75 | 274.00 | 435.25 | 240.25 | 277.25 | 484.75
40 | 137.00 | 161.25 | 213.00 | 282.50 | 441.75 | 244.50 | 282.50 | 493.25
41 | 139.25 | 163.25 | 217.00 | 287.75 | 449.00 | 248.75 | 287.75 | 500.75
42 | 143.25 | 165.50 | 220.25 | 293.00 | 456.50 | 253.00 | 293.00 | 509.00
43 | 145.50 | 167.50 | 224.50 | 298.25 | 463.75 | 257.25 | 298.25 | 516.50
44 | 147.50 | 168.75 | 227.75 | 303.50 | 471.25 | 261.50 | 303.50 | 525.00
45 | 150.75 | 170.75 | 232.00 | 311.00 | 478.50 | 265.50 | 308.75 | 532.25
46 | 152.75 | 172.75 | 235.00 | 316.25 | 486.00 | 269.75 | 314.00 | 534.50
47 | 155.00 | 174.00 | 238.25 | 321.50 | 492.25 | 274.00 | 319.25 | 542.75
48 | 157.00 | 176.00 | 242.50 | 326.75 | 499.50 | 278.25 | 324.75 | 550.25
49 | 159.25 | 178.25 | 245.50 | 332.00 | 507.00 | 282.50 | 330.00 | 558.50
50 | 160.25 | 181.25 | 252.00 | 337.25 | 519.50 | 288.75 | 335.25 | 572.25
51 | 164.50 | 183.50 | 255.00 | 342.50 | 525.00 | 291.00 | 340.50 | 588.25
52 | 166.50 | 185.50 | 259.25 | 347.75 | 532.25 | 297.25 | 345.75 | 588.25
53 | 168.75 | 187.50 | 262.50 | 353.00 | 539.75 | 301.50 | 351.00 | 605.00
54 | 171.75 | 188.75 | 266.75 | 358.25 | 547.00 | 305.75 | 356.25 | 605.00
55 | 172.75 | 190.75 | 269.75 | 363.75 | 554.50 | 308.75 | 361.50 | 618.75
56 | 175.00 | 191.75 | 274.00 | 369.00 | 561.75 | 314.00 | 366.75 | 618.75
57 | 176.00 | 194.00 | 277.25 | 374.25 | 569.25 | 317.25 | 372.00 | 631.25
58 | 177.00 | 195.00 | 280.25 | 379.50 | 575.50 | 322.50 | 377.25 | 631.25
59 | 179.25 | 197.00 | 284.50 | 384.75 | 582.75 | 325.75 | 382.50 | 645.00
60 | 179.25 | 199.25 | 287.75 | 390.00 | 590.25 | 331.00 | 387.75 | 645.00
61 | 181.25 | 203.50 | 292.00 | 395.25 | 597.50 | 334.00 | 393.25 | 660.75
62 | 182.25 | 204.50 | 295.00 | 399.50 | 604.00 | 340.50 | 398.50 | 660.75
63 | 183.50 | 206.50 | 299.25 | 404.75 | 612.25 | 342.50 | 403.75 | 676.75
64 | 184.50 | 207.75 | 302.50 | 410.00 | 615.50 | 348.75 | 409.00 | 676.75
65 | 185.50 | 209.75 | 306.75 | 415.25 | 627.25 | 351.00 | 414.25 | 692.50
66 | 186.50 | 210.75 | 310.00 | 420.50 | 627.25 | 357.25 | 419.50 | 692.50
67 | 187.50 | 213.00 | 313.00 | 425.75 | 638.75 | 359.50 | 424.75 | 708.25
68 | 188.75 | 215.00 | 317.25 | 431.00 | 640.75 | 365.75 | 430.00 | 708.25
69 | 189.75 | 216.00 | 320.50 | 436.25 | 650.25 | 367.75 | 435.25 | 724.00
70 | 190.75 | 217.00 | 324.75 | 441.75 | 650.25 | 374.25 | 440.50 | 724.00

Global Express Mail
Weight not over (lbs.) | Group 1 | Group 2 | Group 3 | Group 4 | Group 5 | Group 6 | Group 7 | Group 8 | Group 9 | Group 10 | Group 11 | Group 12
0.5 | $16.25 | $17.75 | $21.00 | $18.25 | $20.00 | $18.00 | $24.25 | $18.00 | $20.00 | $24.00 | $30.00 | $23.50
1 | 17.15 | 21.10 | 26.10 | 22.55 | 24.00 | 20.20 | 27.40 | 21.60 | 23.20 | 26.60 | 32.95 | 26.10
2 | 17.90 | 25.00 | 30.30 | 26.85 | 27.45 | 22.80 | 30.55 | 25.30 | 27.40 | 29.80 | 37.40 | 29.50
3 | 19.25 | 29.10 | 34.50 | 31.15 | 32.15 | 26.30 | 33.75 | 29.50 | 31.60 | 34.25 | 42.70 | 33.75
4 | 20.30 | 32.80 | 37.70 | 35.45 | 36.80 | 29.65 | 36.90 | 33.75 | 36.90 | 38.45 | 47.15 | 37.95
5 | 21.60 | 36.05 | 40.85 | 39.45 | 41.30 | 33.55 | 40.05 | 37.95 | 42.15 | 42.95 | 52.45 | 42.15
6 | 24.00 | 38.35 | 44.00 | 43.00 | 45.80 | 36.85 | 43.40 | 42.35 | 47.05 | 47.45 | 57.45 | 46.40
7 | 26.35 | 40.70 | 47.15 | 46.55 | 50.30 | 40.10 | 46.80 | 46.80 | 51.95 | 51.90 | 62.45 | 50.60
8 | 28.70 | 43.00 | 50.35 | 50.10 | 54.75 | 43.35 | 50.15 | 51.20 | 56.85 | 56.40 | 67.45 | 54.80
9 | 31.10 | 45.30 | 53.50 | 53.65 | 59.25 | 46.65 | 53.55 | 55.65 | 61.75 | 60.85 | 72.45 | 59.00
10 | 33.45 | 47.65 | 56.65 | 57.20 | 63.70 | 49.90 | 56.90 | 60.10 | 66.65 | 65.35 | 77.45 | 63.25
11 | 35.85 | 49.95 | 59.80 | 60.75 | 68.20 | 53.15 | 60.30 | 64.50 | 71.55 | 69.85 | 82.50 | 67.45
12 | 38.20 | 52.30 | 63.00 | 64.30 | 72.65 | 56.45 | 63.65 | 68.95 | 76.45 | 74.30 | 87.50 | 71.65
13 | 40.60 | 54.60 | 66.15 | 67.80 | 77.15 | 59.70 | 67.05 | 73.35 | 81.35 | 78.80 | 92.50 | 75.90
14 | 42.95 | 56.90 | 69.30 | 71.35 | 81.65 | 63.00 | 70.40 | 77.80 | 86.25 | 83.25 | 97.50 | 80.10
15 | 45.30 | 59.25 | 72.45 | 74.90 | 86.10 | 66.25 | 73.80 | 82.20 | 91.15 | 87.75 | 102.50 | 84.30
16 | 47.70 | 61.55 | 75.60 | 78.45 | 90.60 | 69.50 | 77.15 | 86.65 | 96.05 | 92.25 | 107.50 | 88.55
17 | 50.05 | 63.85 | 78.80 | 82.00 | 95.05 | 72.80 | 80.55 | 91.05 | 100.95 | 96.70 | 112.50 | 92.75
18 | 52.45 | 66.20 | 81.95 | 85.55 | 99.55 | 76.05 | 83.90 | 95.50 | 105.85 | 101.20 | 117.50 | 96.95
19 | 54.80 | 68.50 | 85.10 | 89.10 | 104.05 | 79.30 | 87.25 | 99.90 | 110.80 | 105.65 | 122.55 | 101.20
20 | 57.20 | 70.85 | 88.25 | 92.65 | 108.50 | 82.60 | 90.65 | 104.35 | 115.70 | 110.15 | 127.55 | 105.40
21 | 59.55 | 73.15 | 91.45 | 96.20 | 113.00 | 85.85 | 94.00 | 108.75 | 120.60 | 114.60 | 132.55 | 109.60
22 | 61.90 | 75.45 | 94.60 | 99.70 | 117.45 | 89.10 | 97.40 | 113.20 | 125.50 | 119.10 | 137.55 | 113.85
23 | 64.30 | 77.80 | 97.75 | 103.25 | 121.95 | 92.40 | 100.75 | 117.65 | 130.40 | 123.60 | 142.55 | 118.05
24 | 66.65 | 80.10 | 100.90 | 106.80 | 126.45 | 95.65 | 104.15 | 122.05 | 135.30 | 128.05 | 147.55 | 122.25
25 | 69.05 | 82.40 | 104.10 | 110.35 | 130.90 | 98.90 | 107.50 | 126.50 | 140.20 | 132.55 | 152.55 | 126.50
26 | 71.40 | 84.75 | 107.25 | 113.90 | 135.40 | 102.20 | 110.90 | 130.90 | 145.10 | 137.00 | 157.55 | 130.70
27 | 73.80 | 87.05 | 110.40 | 117.45 | 139.85 | 105.45 | 114.25 | 135.35 | 150.00 | 141.50 | 162.60 | 134.90
28 | 76.15 | 89.40 | 113.55 | 121.00 | 144.35 | 108.70 | 117.65 | 139.75 | 154.90 | 146.00 | 167.60 | 139.15
29 | 78.50 | 91.70 | 116.75 | 124.55 | 148.80 | 112.00 | 121.00 | 144.20 | 159.80 | 150.45 | 172.60 | 143.35
30 | 80.90 | 94.00 | 119.90 | 128.05 | 153.30 | 115.25 | 124.35 | 148.60 | 164.70 | 154.95 | 177.60 | 147.55
31 | 83.25 | 96.35 | 123.05 | 131.60 | 157.80 | 118.50 | 127.75 | 153.05 | 169.60 | 159.40 | 182.60 | 151.80
32 | 85.65 | 98.65 | 126.20 | 135.15 | 162.25 | 121.80 | 131.10 | 157.45 | 174.50 | 163.90 | 187.60 | 156.00
33 | 88.00 | 100.95 | 129.40 | 138.70 | 166.75 | 125.05 | 134.50 | 161.90 | 179.40 | 168.40 | 192.60 | 160.20
34 | 90.40 | 103.30 | 132.55 | 142.25 | 171.20 | 128.30 | 137.85 | 166.30 | 184.30 | 172.85 | 197.65 | 164.40
35 | 92.75 | 105.60 | 135.70 | 145.80 | 175.70 | 131.60 | 141.25 | 170.75 | 189.20 | 177.35 | 202.65 | 168.65
36 | 95.10 | 107.95 | 138.85 | 149.35 | 180.20 | 134.85 | 144.60 | 175.15 | 194.10 | 181.80 | 207.65 | 172.85
37 | 97.50 | 110.25 | 142.05 | 152.90 | 184.65 | 138.15 | 148.00 | 179.60 | 199.00 | 186.30 | 212.65 | 177.05
38 | 99.85 | 112.55 | 145.20 | 156.45 | 189.15 | 141.40 | 151.35 | 184.05 | 203.90 | 190.75 | 217.65 | 181.30
39 | 102.25 | 114.90 | 148.35 | 159.95 | 193.60 | 144.65 | 154.75 | 188.45 | 208.80 | 195.25 | 222.65 | 185.50
40 | 104.60 | 117.20 | 151.50 | 163.50 | 198.10 | 147.95 | 158.10 | 192.90 | 213.70 | 199.75 | 227.65 | 189.70
41 | 107.00 | 119.50 | 154.65 | 167.05 | 202.60 | 151.20 | 161.45 | 197.30 | 218.60 | 204.20 | 232.65 | 193.95
42 | 109.35 | 121.85 | 157.85 | 170.60 | 207.05 | 154.45 | 164.85 | 201.75 | 223.50 | 208.70 | 237.70 | 198.15
43 | 111.70 | 124.15 | 161.00 | 174.15 | 211.55 | 157.75 | 168.20 | 206.15 | 228.40 | 213.15 | 242.70 | 202.35
44 | 114.10 | 126.50 | 164.15 | 177.70 | 216.00 | 161.00 | 171.60 | 210.60 | 233.30 | 217.65 | 247.70 | 206.60
45 | 116.45 | 128.80 | 167.30 | 181.25 | 220.50 | 164.25 | 174.95 | 215.00 | 238.20 | 222.15 | 252.70 | 210.80
46 | 118.85 | 131.10 | 170.50 | 184.80 | 225.00 | 167.55 | 178.35 | 219.45 | 243.10 | 226.60 | 257.70 | 215.00
47 | 121.20 | 133.45 | 173.65 | 188.35 | 229.45 | 170.80 | 181.70 | 223.85 | 248.00 | 231.10 | 262.70 | 219.25
48 | 123.60 | 135.75 | 176.80 | 191.85 | 233.95 | 174.05 | 185.10 | 228.30 | 252.90 | 235.55 | 267.70 | 223.45
49 | 125.95 | 138.05 | 179.95 | 195.40 | 238.40 | 177.35 | 188.45 | 232.70 | 257.80 | 240.05 | 272.70 | 227.65
50 | 128.30 | 140.40 | 183.15 | 198.95 | 242.90 | 180.60 | 191.85 | 237.15 | 262.70 | 244.55 | 277.75 | 231.90
51 | 130.70 | 142.70 | 186.30 | 202.50 | 247.35 | 183.85 | 195.20 | 241.60 | 267.60 | 249.00 | 282.75 | 236.10
52 | 133.05 | 145.05 | 189.45 | 206.05 | 251.85 | 187.15 | 198.55 | 246.00 | 272.50 | 253.50 | 287.75 | 240.30
53 | 135.45 | 147.35 | 192.60 | 209.60 | 256.35 | 190.40 | 201.95 | 250.45 | 277.40 | 257.95 | 292.75 | 244.55
54 | 137.80 | 149.65 | 195.80 | 213.15 | 260.80 | 193.65 | 205.30 | 254.85 | 282.30 | 262.45 | 297.75 | 248.75
55 | 140.20 | 152.00 | 198.95 | 216.70 | 265.30 | 196.95 | 208.70 | 259.30 | 287.20 | 266.95 | 302.75 | 252.95
56 | 142.55 | 154.30 | 202.10 | 220.20 | 269.75 | 200.20 | 212.05 | 263.70 | 292.10 | 271.40 | 307.75 | 257.20
57 | 144.95 | 156.60 | 205.25 | 223.75 | 274.25 | 203.45 | 215.45 | 268.15 | 297.00 | 275.90 | 312.75 | 261.40
58 | 147.30 | 158.95 | 208.45 | 227.30 | 278.75 | 206.75 | 218.80 | 272.55 | 301.90 | 280.35 | 317.80 | 265.60
59 | 149.65 | 161.25 | 211.60 | 230.85 | 283.20 | 210.00 | 222.20 | 277.00 | 306.80 | 284.85 | 322.80 | 269.80
60 | 152.05 | 163.60 | 214.75 | 234.40 | 287.70 | 213.30 | 225.55 | 281.40 | 311.70 | 289.30 | 327.80 | 274.05
61 | 154.40 | 165.90 | 217.90 | 237.95 | 292.15 | 216.55 | 228.95 | 285.85 | 316.60 | 293.80 | 332.80 | 278.25
62 | 156.80 | 168.20 | 221.10 | 241.50 | 296.65 | 219.80 | 232.30 | 290.25 | 321.50 | 298.30 | 337.80 | 282.45
63 | 159.15 | 170.55 | 224.25 | 245.05 | 301.15 | 223.10 | 235.65 | 294.70 | 326.40 | 302.75 | 342.80 | 286.70
64 | 161.55 | 172.85 | 227.40 | 248.60 | 305.60 | 226.35 | 239.05 | 299.15 | 331.30 | 307.25 | 347.80 | 290.90
65 | 163.90 | 175.15 | 230.55 | 252.10 | 310.10 | 229.60 | 242.40 | 303.55 | 336.25 | 311.70 | 352.85 | 295.10
66 | 166.25 | 177.50 | 233.70 | 255.65 | 314.55 | 232.90 | 245.80 | 308.00 | 341.15 | 316.20 | 357.85 | 299.35
67 | N/A | N/A | N/A | N/A | N/A | 235.65 | 249.55 | 313.00 | 346.15 | 320.95 | 363.10 | 303.85
68 | N/A | N/A | N/A | N/A | N/A | 238.40 | 253.30 | 318.00 | 351.15 | 325.70 | 368.35 | 308.35
69 | N/A | N/A | N/A | N/A | N/A | 241.15 | 257.05 | 323.00 | 356.15 | 330.45 | 373.60 | 312.85
70 | N/A | N/A | N/A | N/A | N/A | 243.90 | 260.80 | 328.00 | 361.15 | 335.20 | 378.85 | 317.35
EMS corporate account: 5 percent discount from single-piece rates.

Global Priority Mail—Flat-Rate Envelope
Destination | Small | Large
Canada and Mexico | $4.25 | $7.50
Other Countries | 5.25 | 9.50

Global Priority Mail—Variable Weight
Weight not over (lbs.) | Group 1 | Group 2 | Group 3 | Group 4 | Group 5
0.5 | $6.25 | $7.50 | $8.50 | $9.50 | $8.50
1 | 8.50 | 9.50 | 10.50 | 11.50 | 12.75
1.5 | 9.50 | 10.50 | 12.75 | 13.75 | 14.75
2 | 11.50 | 13.75 | 15.75 | 16.75 | 18.00
2.5 | 12.75 | 16.75 | 19.00 | 20.00 | 22.25
3 | 14.75 | 20.00 | 22.25 | 23.25 | 25.25
3.5 | 16.75 | 23.25 | 24.25 | 25.25 | 29.50
4 | 19.00 | 26.25 | 27.50 | 28.50 | 32.75

Aerogrammes
All Countries | $0.75

Postal Cards and Postcards
Canada & Mexico | $0.55
Other Countries | 0.75

Airmail Letter-Post
Weight not over (ozs.) | Group 1 | Group 2 | Group 3 | Group 4 | Group 5
1 | $0.63 | $0.63 | $0.84 | $0.84 | $0.84
2 | 0.90 | 0.90 | 1.70 | 1.80 | 1.65
3 | 1.15 | 1.30 | 2.55 | 2.75 | 2.40
4 | 1.40 | 1.75 | 3.35 | 3.70 | 3.20
5 | 1.70 | 2.15 | 4.20 | 4.65 | 4.00
6 | 1.95 | 2.60 | 5.05 | 5.60 | 4.80
7 | 2.20 | 3.00 | 5.90 | 6.55 | 5.60
8 | 2.50 | 3.45 | 6.75 | 7.50 | 6.40
12 | 3.25 | 4.20 | 7.95 | 8.85 | 8.05
16 | 3.95 | 5.45 | 9.15 | 10.20 | 9.75
20 | 4.65 | 6.65 | 10.40 | 11.60 | 11.45
24 | 5.30 | 7.85 | 11.60 | 12.95 | 13.10
28 | 6.00 | 9.05 | 12.80 | 14.35 | 14.80
32 | 6.70 | 10.30 | 14.00 | 15.70 | 16.50
36 | 7.40 | 11.55 | 15.30 | 17.15 | 18.30
40 | 8.05 | 12.80 | 16.55 | 18.55 | 20.10
44 | 8.75 | 14.05 | 17.80 | 19.95 | 21.85
48 | 9.45 | 15.35 | 19.10 | 21.40 | 23.65
52 | 10.15 | 16.65 | 20.40 | 22.85 | 25.50
56 | 10.90 | 17.95 | 21.70 | 24.35 | 27.35
60 | 11.65 | 19.30 | 23.05 | 25.80 | 29.20
64 | 12.40 | 20.60 | 24.35 | 27.30 | 31.05

Airmail Parcel Post
Weight not over (lbs.) | Group 1 | Group 2 | Group 3 | Group 4 | Group 5 | Group 6 | Group 7 | Group 8 | Group 9 | Group 10 | Group 11 | Group 12 | Group 13
1 | $14.00 | $13.75 | $16.75 | $17.25 | $16.00 | $14.75 | $17.50 | $13.25 | $15.25 | $16.75 | $19.00 | $14.75 | $18.00
2 | 14.00 | 16.35 | 21.10 | 21.60 | 20.80 | 16.35 | 20.05 | 16.85 | 19.75 | 19.50 | 23.20 | 16.35 | 20.05
3 | 15.00 | 18.70 | 25.30 | 25.80 | 25.80 | 18.45 | 22.90 | 21.10 | 24.50 | 22.65 | 27.40 | 18.20 | 23.20
4 | 16.35 | 21.35 | 29.50 | 30.55 | 31.35 | 21.35 | 25.80 | 25.55 | 28.20 | 25.30 | 31.60 | 20.30 | 26.35
5 | 17.65 | 24.25 | 33.75 | 35.30 | 36.90 | 24.00 | 28.70 | 30.30 | 34.50 | 27.95 | 35.85 | 22.40 | 29.50
6 | 18.80 | 26.35 | 36.90 | 38.80 | 41.35 | 27.05 | 31.90 | 34.40 | 38.45 | 31.10 | 39.50 | 25.05 | 32.95
7 | 19.95 | 28.45 | 40.05 | 42.25 | 45.85 | 30.10 | 35.05 | 38.50 | 42.60 | 34.25 | 43.20 | 27.65 | 36.35
8 | 21.15 | 30.55 | 43.20 | 45.75 | 50.35 | 33.15 | 42.65 | 46.70 | 37.40 | 46.90 | 30.30 | 39.80 | 38.20
9 | 22.30 | 32.65 | 46.40 | 49.20 | 54.80 | 36.20 | 41.35 | 46.75 | 50.80 | 40.60 | 50.60 | 32.95 | 43.20
10 | 23.45 | 34.80 | 49.55 | 52.70 | 59.30 | 39.25 | 44.55 | 50.85 | 54.90 | 43.75 | 54.30 | 35.55 | 46.65
11 | 24.60 | 36.90 | 52.70 | 56.20 | 63.75 | 42.30 | 47.70 | 54.95 | 59.00 | 46.90 | 57.95 | 38.20 | 50.05
12 | 25.75 | 39.00 | 55.85 | 59.65 | 68.25 | 59.10 | 63.15 | 50.05 | 61.65 | 40.85 | 53.50 | 45.35 | 50.85
13 | 26.95 | 41.10 | 59.00 | 63.15 | 72.75 | 48.45 | 63.20 | 67.25 | 53.25 | 65.35 | 43.50 | 56.90 | 54.00
14 | 28.10 | 43.20 | 62.20 | 66.60 | 77.20 | 51.50 | 57.20 | 67.30 | 71.35 | 56.40 | 69.05 | 46.10 | 60.35
15 | 29.25 | 45.30 | 65.35 | 70.10 | 81.70 | 54.55 | 60.35 | 71.40 | 75.45 | 59.55 | 72.75 | 48.75 | 63.75
16 | 30.40 | 47.45 | 68.50 | 73.55 | 86.15 | 57.60 | 63.50 | 75.50 | 79.60 | 62.70 | 76.40 | 51.40 | 67.20
17 | 31.55 | 49.55 | 71.65 | 77.05 | 90.65 | 60.65 | 66.65 | 79.65 | 83.70 | 65.90 | 80.10 | 54.00 | 70.60
18 | 32.75 | 51.65 | 74.85 | 80.55 | 95.10 | 63.70 | 69.85 | 83.75 | 87.80 | 69.05 | 83.80 | 56.65 | 74.05
19 | 33.90 | 53.75 | 78.00 | 84.00 | 99.60 | 66.75 | 73.00 | 87.85 | 91.90 | 72.20 | 87.50 | 59.30 | 77.45
20 | 35.05 | 55.85 | 81.15 | 87.50 | 104.10 | 69.85 | 76.15 | 91.95 | 96.00 | 75.35 | 91.15 | 61.90 | 80.90
21 | 36.20 | 57.95 | 84.30 | 90.95 | 108.55 | 72.90 | 79.30 | 96.05 | 100.15 | 78.50 | 94.85 | 64.55 | 84.30
22 | 37.35 | 60.10 | 87.50 | 94.45 | 113.05 | 75.95 | 82.50 | 100.20 | 104.25 | 81.70 | 98.55 | 67.20 | 87.75
23 | 38.50 | 62.20 | 90.65 | 97.90 | 117.50 | 79.00 | 85.65 | 104.30 | 108.35 | 84.85 | 102.25 | 69.85 | 91.15
24 | 39.70 | 64.30 | 93.80 | 101.40 | 122.00 | 82.05 | 88.80 | 108.40 | 112.45 | 88.00 | 105.95 | 72.45 | 94.60
25 | 40.85 | 66.40 | 96.95 | 104.85 | 126.50 | 85.10 | 91.95 | 112.50 | 116.55 | 91.15 | 109.60 | 75.10 | 98.00
26 | 42.00 | 68.50 | 100.15 | 108.35 | 130.95 | 88.15 | 95.10 | 116.65 | 120.70 | 94.35 | 113.30 | 77.75 | 101.45
27 | 43.15 | 70.60 | 103.30 | 111.85 | 135.45 | 91.20 | 98.30 | 120.75 | 124.80 | 97.50 | 117.00 | 80.35 | 104.85
28 | 44.30 | 72.75 | 106.45 | 115.30 | 139.90 | 94.30 | 101.45 | 124.85 | 128.90 | 100.65 | 120.70 | 83.00 | 108.30
29 | 45.50 | 74.85 | 109.60 | 118.80 | 144.40 | 97.35 | 104.60 | 128.95 | 133.00 | 103.80 | 124.35 | 85.65 | 111.70
30 | 46.65 | 76.95 | 112.80 | 122.25 | 148.90 | 100.40 | 107.75 | 133.05 | 137.15 | 107.00 | 128.05 | 88.25 | 115.15
31 | 47.80 | 79.05 | 115.95 | 125.75 | 153.35 | 103.45 | 110.95 | 137.20 | 141.25 | 110.15 | 131.75 | 90.90 | 118.60
32 | 48.95 | 81.15 | 119.10 | 129.20 | 157.85 | 106.50 | 114.10 | 141.30 | 145.35 | 113.30 | 135.45 | 93.55 | 122.00
33 | 50.10 | 83.25 | 122.25 | 132.70 | 162.30 | 109.55 | 117.25 | 145.40 | 149.45 | 116.45 | 139.15 | 96.20 | 125.45
34 | 51.30 | 85.35 | 125.45 | 136.20 | 166.80 | 112.60 | 120.40 | 149.50 | 153.55 | 119.65 | 142.80 | 98.80 | 128.85
35 | 52.45 | 87.50 | 128.60 | 139.65 | 171.30 | 115.70 | 123.60 | 153.60 | 157.70 | 122.80 | 146.50 | 101.45 | 132.30
36 | 53.60 | 89.60 | 131.75 | 143.15 | 175.75 | 118.75 | 126.75 | 157.75 | 161.80 | 125.95 | 150.20 | 104.10 | 135.70
37 | 54.75 | 91.70 | 134.90 | 146.60 | 180.25 | 121.80 | 129.90 | 161.85 | 165.90 | 129.10 | 153.90 | 106.70 | 139.15
38 | 55.90 | 93.80 | 138.05 | 150.10 | 184.70 | 124.85 | 133.05 | 165.95 | 170.00 | 132.30 | 157.55 | 109.35 | 142.55
39 | 57.05 | 95.90 | 141.25 | 153.55 | 189.20 | 127.90 | 136.25 | 170.05 | 174.10 | 135.45 | 161.25 | 112.00 | 146.00
40 | 58.25 | 98.00 | 144.40 | 157.05 | 193.65 | 130.95 | 139.40 | 174.15 | 178.25 | 138.60 | 164.95 | 114.60 | 149.40
41 | 59.40 | 100.15 | 147.55 | 160.50 | 198.15 | 134.00 | 142.55 | 178.30 | 182.35 | 141.75 | 168.65 | 117.25 | 152.85
42 | 60.55 | 102.25 | 150.70 | 164.00 | 202.65 | 137.05 | 145.70 | 182.40 | 186.45 | 144.95 | 172.35 | 119.90 | 156.25
43 | 61.70 | 104.35 | 153.90 | 167.50 | 207.10 | 140.15 | 186.50 | 190.55 | 148.10 | 176.00 | 122.55 | 159.70 | 148.90
44 | 62.85 | 106.45 | 157.05 | 170.95 | 211.60 | 143.20 | 152.05 | 190.60 | 194.65 | 151.25 | 179.70 | 125.15 | 163.10
45 | 64.05 | N/A | 160.20 | 174.45 | 216.05 | 146.25 | 155.20 | 194.75 | 198.80 | 154.40 | 183.40 | 127.80 | 166.55
46 | 65.20 | N/A | 163.35 | 177.90 | 220.55 | 149.30 | 158.35 | 198.85 | 202.90 | 157.55 | 187.10 | 130.45 | 169.95
47 | 66.35 | N/A | 166.55 | 181.40 | 225.05 | 152.35 | 161.55 | 202.95 | 207.00 | 160.75 | 190.75 | 133.05 | 173.40
48 | 67.50 | N/A | 169.70 | 184.85 | 229.50 | 155.40 | 164.70 | 207.05 | 211.10 | 163.90 | 194.45 | 135.70 | 176.80
49 | 68.65 | N/A | 172.85 | 188.35 | 234.00 | 158.45 | 167.85 | 211.15 | 215.25 | 167.05 | 198.15 | 138.35 | 180.25
50 | 69.85 | N/A | 176.00 | 191.85 | 238.45 | 161.55 | 171.00 | 215.30 | 219.35 | 170.20 | 201.85 | 140.95 | 183.65
51 | 71.00 | N/A | 179.20 | 195.30 | 242.95 | 164.60 | 174.15 | 219.40 | 223.45 | 173.40 | 205.55 | 143.60 | 187.10
52 | 72.15 | N/A | 182.35 | 198.80 | 247.45 | 167.65 | 177.35 | 223.50 | 227.55 | 176.55 | 209.20 | 146.25 | 190.50
53 | 73.30 | N/A | 185.50 | 202.25 | 251.90 | 170.70 | 180.50 | 227.60 | 231.65 | 179.70 | 212.90 | 148.90 | 193.95
54 | 74.45 | N/A | 188.65 | 205.75 | 256.40 | 173.75 | 183.65 | 231.70 | 235.80 | 182.85 | 216.60 | 151.50 | 197.35
55 | 75.60 | N/A | 191.85 | 209.20 | 260.85 | 176.80 | 186.80 | 235.85 | 239.90 | 186.05 | 220.30 | 154.15 | 200.80
56 | 76.80 | N/A | 195.00 | 212.70 | 265.35 | 179.85 | 190.00 | 239.95 | 244.00 | 189.20 | 224.00 | 156.80 | 204.20
57 | 77.95 | N/A | 198.15 | 216.20 | 269.80 | 182.90 | 193.15 | 244.05 | 248.10 | 192.35 | 227.65 | 159.40 | 207.65
58 | 79.10 | N/A | 201.30 | 219.65 | 274.30 | 186.00 | 196.30 | 248.15 | 252.20 | 195.50 | 231.35 | 162.05 | 211.05
59 | 80.25 | N/A | 204.50 | 223.15 | 278.80 | 189.05 | 199.45 | 252.25 | 256.35 | 198.70 | 235.05 | 164.70 | 214.50
60 | 81.40 | N/A | 207.65 | 226.60 | 283.25 | 192.10 | 202.65 | 256.40 | 260.45 | 201.85 | 238.75 | 167.30 | 217.90
61 | 82.60 | N/A | 210.80 | 230.10 | 287.75 | 195.15 | 205.80 | 260.50 | 264.55 | 205.00 | 242.40 | 169.95 | 221.35
62 | 83.75 | N/A | 213.95 | 233.55 | 292.20 | 198.20 | 208.95 | 264.60 | 268.65 | 208.15 | 246.10 | 172.60 | 224.75
63 | 84.90 | N/A | 217.10 | 237.05 | 296.70 | 201.25 | 212.10 | 268.70 | 272.80 | 211.35 | 249.80 | 175.25 | 228.20
64 | 86.05 | N/A | 220.30 | 240.50 | 301.20 | 204.30 | 215.30 | 272.85 | 276.90 | 214.50 | 253.50 | 177.85 | 231.60
65 | 87.20 | N/A | 223.45 | 244.00 | 305.65 | 207.35 | 218.45 | 276.95 | 281.00 | 217.65 | 257.20 | 180.50 | 235.05
66 | 88.40 | N/A | 226.60 | 247.50 | 310.15 | 210.45 | 221.60 | 281.05 | 285.10 | 220.80 | 260.85 | 183.15 | 238.45
67 | N/A | N/A | N/A | N/A | 314.60 | 213.50 | 224.75 | 285.15 | 289.20 | 224.00 | 264.55 | 185.75 | 241.90
68 | N/A | N/A | N/A | N/A | 319.10 | 216.55 | 227.95 | 289.25 | 293.35 | 227.15 | 268.25 | 188.40 | 245.30
69 | N/A | N/A | N/A | N/A | 323.60 | 219.60 | 231.10 | 293.40 | 297.45 | 230.30 | 271.95 | 191.05 | 248.75
70 | N/A | N/A | N/A | N/A | 328.05 | 222.65 | 234.25 | 297.50 | 301.55 | 233.45 | 275.60 | 193.65 | 252.15

International Priority Airmail
Rate group | Per piece | Drop shipment per pound | Full service per pound
1 (Canada) | $0.30 | $2.75 | $3.75
2 (Mexico) | 0.13 | 4.85 | 5.85
3 | 0.27 | 4.35 | 5.35
4 | 0.26 | 5.80 | 6.80
5 | 0.13 | 5.10 | 6.10
6 | 0.13 | 5.00 | 6.00
7 | 0.13 | 6.60 | 7.60
8 | 0.13 | 7.65 | 8.65
World wide | 0.21 | 7.40 | 8.40

Airmail M-Bags
Weight not over (lbs.) | Rate groups ¹: 1 | Rate groups ¹: 2 | Rate groups ¹: 3 | Rate groups ¹: 4 | Rate groups ¹: 5
11 | $17.60 | $22.55 | $29.15 | $40.70 | $40.70
Add'l Weight * | 1.60 | 2.05 | 2.65 | 3.70 | 3.70
¹ Rate Groups: See the “Letter-post” rate group column in the Country Listing.
* Each additional pound or fraction of a pound, up to a maximum weight of 66 pounds.

Economy Letter-Post
Weight not over (ozs.) | Group 1 | Group 2 | Group 3 | Group 4 | Group 5
16 | $2.85 | $5.15 | $4.10 | $4.25 | $6.00
20 | 4.25 | 6.10 | 4.85 | 4.95 | 6.90
24 | 4.80 | 7.00 | 5.55 | 5.65 | 7.85
28 | 5.30 | 7.90 | 6.20 | 6.30 | 8.85
32 | 5.90 | 8.85 | 6.85 | 7.00 | 9.80
36 | 6.30 | 9.60 | 7.50 | 7.65 | 10.60
40 | 6.75 | 10.40 | 8.15 | 8.25 | 11.35
44 | 7.15 | 11.15 | 8.80 | 8.90 | 12.15
48 | 7.60 | 11.90 | 9.45 | 9.55 | 12.95
52 | 8.00 | 12.70 | 10.10 | 10.15 | 13.75
56 | 8.45 | 13.45 | 10.75 | 10.80 | 14.50
60 | 8.85 | 14.20 | 11.40 | 11.45 | 15.30
64 | 9.30 | 15.00 | 12.05 | 12.05 | 15.75

International Surface Air Lift
Rate group | Per piece | Full service per pound | M-Bag full service | Direct ship per pound | M-Bag direct ship | Drop ship per pound | M-Bag drop ship
1 (Canada) | $0.30 | $3.15 | $1.60 | $2.65 | $1.60 | $2.15 | $1.50
2 (Mexico) | 0.13 | 4.55 | 1.70 | 4.05 | 1.70 | 3.55 | 1.60
3 | 0.26 | 3.55 | 1.85 | 3.05 | 1.85 | 2.55 | 1.60
4 | 0.26 | 3.90 | 2.65 | 3.40 | 2.65 | 2.90 | 2.65
5 | 0.13 | 4.85 | 2.35 | 4.35 | 2.35 | 3.85 | 2.10
6 | 0.13 | 4.75 | 2.35 | 4.25 | 2.35 | 3.75 | 2.10
7 | 0.13 | 4.85 | 2.60 | 4.35 | 2.60 | 3.85 | 2.35
8 | 0.13 | 6.80 | 3.40 | 6.30 | 3.40 | 5.80 | 3.15

Publishers' Periodicals
Weight not over (ozs.) | Rate groups ¹: 1 | Rate groups ¹: 2 | Rate groups ¹: 3 | Rate groups ¹: 4 | Rate groups ¹: 5
1 | $0.61 | $0.80 | $0.70 | $0.68 | $0.81
2 | 0.69 | 1.01 | 0.82 | 0.81 | 1.00
3 | 0.77 | 1.21 | 0.95 | 0.93 | 1.19
4 | 0.85 | 1.41 | 1.08 | 1.06 | 1.38
5 | 0.93 | 1.61 | 1.21 | 1.19 | 1.57
6 | 1.01 | 1.81 | 1.33 | 1.31 | 1.76
7 | 1.09 | 2.01 | 1.46 | 1.44 | 1.94
8 | 1.17 | 2.21 | 1.59 | 1.56 | 2.13
12 | 1.55 | 2.85 | 2.10 | 2.06 | 2.73
16 | 1.93 | 3.50 | 2.61 | 2.57 | 3.32
20 | 2.15 | 4.14 | 3.12 | 3.07 | 3.92
24 | 2.36 | 4.78 | 3.63 | 3.57 | 4.51
28 | 2.58 | 5.43 | 4.14 | 4.07 | 5.10
32 | 2.79 | 6.07 | 4.65 | 4.57 | 5.70
36 | 5.22 | 6.71 | 5.16 | 5.07 | 6.29
40 | 5.39 | 7.36 | 5.67 | 5.57 | 6.89
44 | 5.55 | 8.00 | 6.18 | 6.08 | 7.48
48 | 5.71 | 8.64 | 6.69 | 6.58 | 8.07
52 | 5.93 | 9.29 | 7.20 | 7.08 | 8.67
56 | 6.14 | 9.93 | 7.71 | 7.58 | 9.26
60 | 6.36 | 10.57 | 8.22 | 8.08 | 9.86
64 | 6.57 | 11.22 | 8.73 | 8.58 | 10.45
¹ Rate Groups: See the “Letter-post” rate group column in the Country Listing.
Note.—$0.25 per pound discount for drop shipments tendered at the New Jersey International and Bulk Mail Center.

Books and Sheet Music
Weight not over (ozs.) | Rate groups ¹: 1 | Rate groups ¹: 2 | Rate groups ¹: 3 | Rate groups ¹: 4 | Rate groups ¹: 5
0.5 | $2.30 | $3.00 | $2.80 | $2.75 | $3.35
1 | 2.30 | 3.00 | 2.80 | 2.75 | 3.35
2 | 2.30 | 3.00 | 2.80 | 2.75 | 3.35
3 | 2.30 | 3.00 | 2.80 | 2.75 | 3.35
4 | 2.30 | 3.00 | 2.80 | 2.75 | 3.35
5 | 2.30 | 3.00 | 2.80 | 2.75 | 3.35
6 | 2.30 | 3.00 | 2.80 | 2.75 | 3.35
7 | 2.30 | 3.00 | 2.80 | 2.75 | 3.35
8 | 2.30 | 3.00 | 2.80 | 2.75 | 3.35
12 | 2.30 | 3.00 | 2.80 | 2.75 | 3.35
16 | 2.30 | 3.00 | 2.80 | 2.75 | 3.35
20 | 2.50 | 3.60 | 3.35 | 3.25 | 4.00
24 | 2.70 | 4.15 | 3.95 | 3.80 | 4.65
28 | 2.90 | 4.75 | 4.50 | 4.30 | 5.30
32 | 3.10 | 5.25 | 5.00 | 4.85 | 5.95
36 | 4.05 | 5.75 | 5.40 | 5.25 | 6.45
40 | 4.95 | 6.20 | 5.80 | 5.65 | 7.00
44 | 5.85 | 6.70 | 6.20 | 6.05 | 7.55
48 | 6.75 | 7.10 | 6.55 | 6.45 | 7.95
52 | 7.00 | 8.05 | 6.95 | 6.85 | 8.50
56 | 7.30 | 9.00 | 7.40 | 7.25 | 9.05
60 | 7.55 | 9.95 | 7.80 | 7.75 | 9.55
64 | 7.85 | 10.85 | 8.20 | 8.15 | 10.00
¹ Rate Groups: See the “Letter-post” rate group column in the Country Listing.

Economy Parcel Post
Weight not over (lbs.) | Group 1 | Group 2 | Group 3 | Group 4 | Group 5 | Group 6 | Group 7 | Group 8 | Group 9 | Group 10 | Group 11 | Group 12
5 | $16.00 | $20.50 | $24.25 | $24.50 | $22.50 | $19.25 | $23.25 | $22.75 | $30.25 | $23.00 | $27.75 | $21.25
6 | 16.60 | 21.85 | 26.35 | 26.35 | 24.00 | 20.40 | 25.30 | 24.05 | 32.60 | 24.75 | 30.30 | 23.20
7 | 17.40 | 23.20 | 28.45 | 27.65 | 25.55 | 21.55 | 27.40 | 25.40 | 34.95 | 26.35 | 32.65 | 25.05
8 | 18.20 | 24.25 | 30.55 | 29.25 | 27.15 | 22.70 | 29.50 | 26.75 | 37.25 | 28.20 | 35.05 | 26.90
9 | 18.70 | 25.30 | 32.65 | 30.55 | 28.70 | 23.85 | 31.60 | 28.15 | 39.60 | 30.55 | 37.40 | 28.70
10 | 19.25 | 26.10 | 34.50 | 31.90 | 30.30 | 25.05 | 33.75 | 29.60 | 41.90 | 33.75 | 39.80 | 30.45
11 | 19.70 | 26.90 | 36.30 | 33.00 | 31.60 | 26.05 | 35.40 | 31.00 | 43.90 | 35.20 | 41.95 | 32.20
12 | 20.20 | 27.65 | 38.10 | 34.10 | 32.95 | 27.05 | 37.10 | 32.35 | 45.90 | 36.70 | 44.10 | 33.95
13 | 20.65 | 28.45 | 39.90 | 35.20 | 34.25 | 28.05 | 38.80 | 33.75 | 47.90 | 38.15 | 46.25 | 35.70
14 | 21.15 | 29.25 | 41.70 | 36.30 | 35.55 | 29.05 | 40.45 | 35.10 | 49.90 | 39.65 | 48.45 | 37.40
15 | 21.60 | 30.05 | 43.50 | 37.40 | 36.90 | 30.05 | 42.15 | 36.45 | 51.90 | 41.10 | 50.60 | 39.15
16 | 22.10 | 30.85 | 45.25 | 38.50 | 38.20 | 31.05 | 43.85 | 37.85 | 53.90 | 42.60 | 52.75 | 40.90
17 | 22.55 | 31.60 | 47.05 | 39.65 | 39.50 | 32.05 | 45.55 | 39.20 | 55.90 | 44.05 | 54.90 | 42.65
18 | 23.05 | 32.40 | 48.85 | 40.75 | 40.85 | 33.05 | 47.20 | 40.60 | 57.90 | 45.55 | 57.05 | 44.35
19 | 23.50 | 33.20 | 50.65 | 41.85 | 42.15 | 34.05 | 48.90 | 41.95 | 59.90 | 47.00 | 59.25 | 46.10
20 | 24.00 | 34.00 | 52.45 | 42.95 | 43.50 | 35.05 | 50.60 | 43.30 | 61.90 | 48.50 | 61.40 | 47.85
21 | 24.55 | 34.75 | 54.10 | 43.95 | 44.70 | 36.00 | 52.30 | 44.70 | 63.70 | 49.80 | 63.40 | 49.40
22 | 25.15 | 35.45 | 55.80 | 44.95 | 45.90 | 36.95 | 53.95 | 46.05 | 65.50 | 51.10 | 65.40 | 50.90
23 | 25.70 | 36.20 | 57.50 | 45.95 | 47.10 | 37.90 | 55.65 | 47.45 | 67.30 | 52.45 | 67.40 | 52.45
24 | 26.30 | 36.95 | 59.20 | 46.95 | 48.35 | 38.85 | 57.35 | 48.80 | 69.10 | 53.75 | 69.40 | 53.95
25 | 26.90 | 37.70 | 60.85 | 47.95 | 49.55 | 39.80 | 59.00 | 50.15 | 70.90 | 55.05 | 71.40 | 55.50
26 | 27.45 | 38.40 | 62.55 | 48.95 | 50.75 | 40.75 | 60.70 | 51.55 | 72.65 | 56.40 | 73.40 | 57.00
27 | 28.05 | 39.15 | 64.25 | 49.95 | 51.95 | 41.70 | 62.40 | 52.90 | 74.45 | 57.70 | 75.40 | 58.55
28 | 28.60 | 39.90 | 65.95 | 50.95 | 53.15 | 42.65 | 64.10 | 54.30 | 76.25 | 59.00 | 77.40 | 60.10
29 | 29.20 | 40.65 | 67.60 | 51.95 | 54.40 | 43.60 | 65.75 | 55.65 | 78.05 | 60.35 | 79.40 | 61.60
30 | 29.80 | 41.35 | 69.30 | 52.95 | 55.60 | 44.55 | 67.45 | 57.00 | 79.85 | 61.65 | 81.40 | 63.15
31 | 30.35 | 42.10 | 70.90 | 53.90 | 56.75 | 45.45 | 69.05 | 58.40 | 81.60 | 63.00 | 83.25 | 64.60
32 | 30.95 | 42.85 | 72.45 | 54.85 | 57.90 | 46.30 | 70.60 | 59.75 | 83.30 | 64.30 | 85.10 | 66.10
33 | 31.50 | 43.60 | 74.05 | 55.80 | 59.10 | 47.20 | 72.20 | 61.15 | 85.05 | 65.60 | 86.95 | 67.55
34 | 32.10 | 44.30 | 75.60 | 56.75 | 60.25 | 48.10 | 73.80 | 62.50 | 86.80 | 66.95 | 88.80 | 69.05
35 | 32.65 | 45.05 | 77.20 | 57.70 | 61.40 | 49.00 | 75.35 | 63.85 | 88.55 | 68.25 | 90.65 | 70.50
36 | 33.25 | 45.80 | 78.80 | 58.65 | 62.55 | 49.90 | 76.95 | 65.25 | 90.30 | 69.55 | 92.50 | 72.00
37 | 33.85 | 46.55 | 80.35 | 59.60 | 63.70 | 50.80 | 78.50 | 66.60 | 92.00 | 70.90 | 94.35 | 73.45
38 | 34.40 | 47.25 | 81.95 | 60.55 | 64.85 | 51.70 | 80.10 | 68.00 | 93.75 | 72.20 | 96.20 | 74.95
39 | 35.00 | 48.00 | 83.55 | 61.50 | 66.05 | 52.60 | 81.70 | 69.35 | 95.50 | 73.50 | 98.00 | 76.40
40 | 35.55 | 48.75 | 85.10 | 62.45 | 67.20 | 53.50 | 83.25 | 70.70 | 97.25 | 74.85 | 99.85 | 77.90
41 | 36.15 | 49.50 | 86.70 | 63.40 | 68.35 | 54.40 | 84.85 | 72.10 | 98.65 | 76.15 | 101.70 | 79.35
42 | 36.75 | 50.20 | 88.25 | 64.35 | 69.50 | 55.30 | 86.45 | 73.45 | 100.10 | 77.45 | 103.55 | 80.85
43 | 37.30 | 50.95 | 89.85 | 65.30 | 70.65 | 56.20 | 88.00 | 74.85 | 101.50 | 78.80 | 105.40 | 82.30
44 | 37.90 | 51.70 | 91.45 | 66.25 | 71.85 | 57.05 | 89.60 | 76.20 | 102.90 | 80.10 | 107.25 | 83.80
45 | 38.45 | N/A | 93.00 | 67.20 | 73.00 | 57.95 | 91.15 | 77.55 | 104.35 | 81.40 | 109.10 | 85.25
46 | 39.05 | N/A | 94.60 | 68.15 | 74.15 | 58.85 | 92.75 | 78.95 | 105.75 | 82.75 | 110.95 | 86.75
47 | 39.65 | N/A | 96.20 | 69.10 | 75.30 | 59.75 | 94.35 | 80.30 | 107.20 | 84.05 | 112.80 | 88.20
48 | 40.20 | N/A | 97.75 | 70.05 | 76.45 | 60.65 | 95.90 | 81.70 | 108.60 | 85.35 | 114.60 | 89.70
49 | 40.80 | N/A | 99.35 | 71.00 | 77.65 | 61.55 | 97.50 | 83.05 | 110.05 | 86.70 | 116.45 | 91.15
50 | 41.35 | N/A | 100.90 | 71.95 | 78.80 | 62.45 | 99.10 | 84.45 | 111.45 | 88.00 | 118.30 | 92.65
51 | 41.95 | N/A | 102.50 | 72.90 | 79.95 | 63.35 | 100.65 | 85.80 | 112.90 | 89.35 | 120.15 | 94.10
52 | 42.55 | N/A | 104.10 | 73.85 | 81.10 | 64.25 | 102.25 | 87.15 | 114.30 | 90.65 | 122.00 | 95.60
53 | 43.10 | N/A | 105.65 | 74.80 | 82.25 | 65.15 | 103.80 | 88.55 | 115.75 | 91.95 | 123.85 | 97.05
54 | 43.70 | N/A | 107.25 | 75.75 | 83.40 | 66.05 | 105.40 | 89.90 | 117.15 | 93.30 | 125.70 | 98.55
55 | 44.25 | N/A | 108.85 | 76.70 | 84.60 | 66.95 | 107.00 | 91.30 | 118.60 | 94.60 | 127.55 | 100.00
56 | 44.85 | N/A | 110.40 | 77.65 | 85.75 | 67.80 | 108.55 | 92.65 | 120.00 | 95.90 | 129.40 | 101.50
57 | 45.45 | N/A | 112.00 | 78.60 | 86.90 | 68.70 | 110.15 | 94.00 | 121.40 | 97.25 | 131.20 | 103.00
58 | 46.00 | N/A | 113.55 | 79.50 | 88.05 | 69.60 | 111.70 | 95.40 | 122.85 | 98.55 | 133.05 | 104.45
59 | 46.60 | N/A | 115.15 | 80.45 | 89.20 | 70.50 | 113.30 | 96.75 | 124.25 | 99.85 | 134.90 | 105.95
60 | 47.15 | N/A | 116.75 | 81.40 | 90.40 | 71.40 | 114.90 | 98.15 | 125.70 | 101.20 | 136.75 | 107.40
61 | 47.75 | N/A | 118.30 | 82.35 | 91.55 | 72.30 | 116.45 | 99.50 | 127.10 | 102.50 | 138.60 | 108.90
62 | 48.35 | N/A | 119.90 | 83.30 | 92.70 | 73.20 | 118.05 | 100.85 | 128.55 | 103.80 | 140.45 | 110.35
63 | 48.90 | N/A | 121.45 | 84.25 | 93.85 | 74.10 | 119.65 | 102.25 | 129.95 | 105.15 | 142.30 | 111.85
64 | 49.50 | N/A | 123.05 | 85.20 | 95.00 | 75.00 | 121.20 | 103.60 | 131.40 | 106.45 | 144.15 | 113.30
65 | 50.05 | N/A | 124.65 | 86.15 | 96.20 | 75.90 | 122.80 | 105.00 | 132.80 | 107.75 | 146.00 | 114.80
66 | 50.65 | N/A | 126.20 | 87.10 | 97.35 | 76.80 | 124.35 | 106.35 | 134.25 | 109.10 | 147.80 | 116.25
67 | N/A | N/A | N/A | N/A | 98.50 | 77.70 | 125.95 | 107.70 | 135.65 | 110.40 | 149.65 | 117.75
68 | N/A | N/A | N/A | N/A | 99.65 | 78.60 | 127.55 | 109.10 | 137.05 | 111.70 | 151.50 | 119.20
69 | N/A | N/A | N/A | N/A | 100.80 | 79.45 | 129.10 | 110.45 | 138.50 | 113.05 | 153.35 | 120.70
70 | N/A | N/A | N/A | N/A | 101.95 | 80.35 | 130.70 | 111.85 | 139.90 | 114.35 | 155.20 | 122.15

Economy (Surface) M-Bags
Type and weight of mailing | Rate groups ¹: 1 | Rate groups ¹: 2 | Rate groups ¹: 3 | Rate groups ¹: 4 | Rate groups ¹: 5
Regular:
Weight not over 11 lbs | $14.30 | $14.85 | $17.05 | $17.60 | $17.60
Additional weight * | 1.30 | 1.35 | 1.55 | 1.60 | 1.60
Books and Sheet Music and Publishers' Periodicals:
Weight not over 11 lbs | 11.00 | 9.35 | 10.45 | 11.55 | 11.55
Additional weight * | 1.00 | 0.85 | 0.95 | 1.05 | 1.05
* Each additional pound or fraction of a pound, up to a maximum weight of 66 pounds.
¹ Rate Groups: See the “Letter-post” rate group column in the Country Listing.

Country Rate Group List
Country | EMS | Airmail parcel post | Economy parcel post | Letter-post | GXG | IPA & ISAL ¹
Afghanistan |  | 7 | 7 | 5 | 7 | 8
Albania | 6 | 7 | 7 | 5 | 8 | 5
Algeria | 11 | 10 | 11 | 5 |  | 8
Andorra | 7 | 7 | 6 | 3 | 6 | 3
Angola | 11 | 10 | 11 | 5 | 8 | 8
Anguilla | 12 | 12 | 12 | 5 | 3 | 6
Antigua & Barbuda |  | 12 | 12 | 5 | 3 | 6
Argentina | 12 | 13 | 12 | 5 | 5 | 6
Armenia | 7 | 7 | 7 | 5 | 8 | 8
Aruba | 12 | 12 | 12 | 5 | 3 | 6
Ascension |  |  | 11 | 5 |  | 5
Australia | 5 | 5 | 8 | 4 | 4 | 4
Austria | 7 | 7 | 6 | 5 | 6 | 3
Azerbaijan | 6 | 7 | 7 | 5 | 8 | 8
Bahamas | 12 | 12 | 12 | 5 | 3 | 6
Bahrain | 11 | 10 |  | 5 | 7 | 8
Bangladesh | 9 | 8 | 8 | 5 | 7 | 8
Barbados | 12 | 12 | 12 | 5 | 3 | 6
Belarus | 6 | 6 | 7 | 5 | 8 | 5
Belgium | 7 | 7 | 6 | 3 | 3 | 3
Belize | 12 | 12 | 12 | 5 | 5 | 6
Benin | 11 | 10 | 10 | 5 | 8 | 8
Bermuda | 12 | 13 | 12 | 5 | 3 | 6
Bhutan | 8 | 9 | 9 | 5 | 5 | 8
Bolivia | 12 | 13 | 12 | 5 | 5 | 6
Bosnia-Herzegovina | 6 | 6 | 6 | 5 | 8 | 5
Botswana | 10 | 11 | 11 | 5 | 8 | 8
Brazil | 12 | 13 | 12 | 5 | 5 | 6
British Virgin Islands |  | 12 | 12 | 5 | 3 | 6
Brunei Darussalam | 8 | 8 | 8 | 5 | 8 | 7
Bulgaria | 6 | 6 | 7 | 5 | 8 | 5
Burkina Faso | 10 | 10 | 11 | 5 | 8 | 8
Burma (Myanmar) |  | 6 | 6 | 5 |  | 8
Burundi | 11 | 11 | 11 | 5 | 8 | 8
Cambodia | 8 | 8 |  | 5 | 8 | 7
Cameroon | 10 | 11 | 11 | 5 | 8 | 8
Canada | 1 | 1 | 1 | 1 | 1 | 1
Cape Verde | 11 | 10 | 11 | 5 | 8 | 8
Cayman Islands | 12 | 12 | 12 | 5 | 3 | 6
Central African Republic | 11 | 11 | 11 | 5 |  | 8
Chad | 10 | 10 |  | 5 | 8 | 8
Chile | 12 | 13 | 12 | 5 | 5 | 6
China | 5 | 5 | 5 | 5 | 4 | 7
Colombia | 12 | 12 | 12 | 5 | 5 | 6
Comoros |  | 10 | 10 | 5 |  | 8
Congo, Democratic Republic of the | 10 | 11 | 11 | 5 | 8 | 8
Congo, Republic of the | 11 | 10 | 10 | 5 | 8 | 8
Costa Rica | 12 | 12 | 12 | 5 | 5 | 6
Cote d'Ivoire (Ivory Coast) | 10 | 11 | 11 | 5 | 8 | 8
Croatia | 6 | 6 | 6 | 5 | 8 | 5
Cuba |  |  |  | 5 |  | 6
Cyprus | 6 | 6 | 6 | 5 | 7 | 8
Czech Republic | 7 | 6 | 7 | 5 | 8 | 5
Denmark | 7 | 7 | 6 | 3 | 6 | 3
Djibouti | 11 | 10 | 10 | 5 | 8 | 8
Dominica | 12 | 12 | 12 | 5 | 3 | 6
Dominican Republic | 12 | 12 | 12 | 5 | 3 | 6
Ecuador | 12 | 13 | 12 | 5 | 5 | 6
Egypt | 11 | 11 | 11 | 5 | 7 | 8
El Salvador | 12 | 12 | 12 | 5 | 5 | 6
Equatorial Guinea | 10 | 10 | 10 | 5 | 8 | 8
Eritrea | 10 | 11 | 11 | 5 | 8 | 8
Estonia | 6 | 7 | 7 | 5 | 8 | 5
Ethiopia | 10 | 10 | 10 | 5 | 8 | 8
Falkland Islands |  |  | 12 | 5 |  | 6
Faroe Islands | 7 | 6 | 6 | 3 | 6 | 5
Fiji | 8 | 8 | 8 | 5 | 5 | 7
Finland | 7 | 7 | 6 | 3 | 6 | 3
France | 7 | 7 | 6 | 3 | 3 | 3
French Guiana | 12 | 13 | 12 | 5 | 5 | 6
French Polynesia | 9 | 9 | 9 | 5 | 8 | 7
Gabon | 11 | 10 | 11 | 5 | 8 | 8
Gambia |  | 11 | 11 | 5 | 8 | 8
Georgia, Republic of | 7 | 7 | 7 | 5 | 8 | 8
Germany | 7 | 7 | 6 | 3 | 3 | 3
Ghana | 10 | 11 | 11 | 5 | 8 | 8
Gibraltar |  | 7 | 6 | 3 | 6 | 3
Great Britain & Northern Ireland | 3 | 3 | 3 | 3 | 3 | 3
Greece | 7 | 7 | 6 | 3 | 6 | 3
Greenland |  | 6 | 6 | 3 | 6 | 3
Grenada | 12 | 12 | 12 | 5 | 3 | 6
Guadeloupe | 12 | 13 | 12 | 5 | 3 | 6
Guatemala | 12 | 12 | 12 | 5 | 5 | 6
Guinea | 10 | 10 | 10 | 5 | 8 | 8
Guinea-Bissau | 11 | 11 |  | 5 |  | 8
Guyana | 12 | 12 | 12 | 5 | 5 | 6
Haiti | 12 | 12 | 12 | 5 | 3 | 6
Honduras | 12 | 13 | 12 | 5 | 5 | 6
Hong Kong | 5 | 5 | 8 | 5 | 3 | 7
Hungary | 7 | 6 | 6 | 5 | 8 | 5
Iceland | 7 | 6 | 6 | 3 | 6 | 3
India | 8 | 9 | 8 | 5 | 7 | 8
Indonesia | 8 | 8 | 8 | 5 | 4 | 7
Iran |  | 11 | 11 | 5 |  | 8
Iraq | 11 | 11 | 11 | 5 | 7 | 8
Ireland (Eire) | 7 | 7 | 6 | 3 | 3 | 3
Israel | 10 | 10 | 10 | 3 | 7 | 3
Italy | 7 | 7 | 6 | 3 | 3 | 3
Jamaica | 12 | 12 | 12 | 5 | 3 | 6
Japan | 4 | 4 | 4 | 4 | 3 | 4
Jordan | 10 | 10 | 10 | 5 | 7 | 8
Kazakhstan | 6 | 6 | 7 | 5 | 8 | 8
Kenya | 10 | 10 | 10 | 5 | 8 | 8
Kiribati |  | 8 | 8 | 5 |  | 7
Korea, Democratic People's Republic of (North) |  |  |  | 5 |  | 7
Korea, Republic of (South) | 5 | 5 | 8 | 5 | 4 | 7
Kuwait | 11 | 10 |  | 5 | 7 | 8
Kyrgyzstan | 6 | 6 | 7 | 5 | 8 | 5
Laos | 9 | 9 | 9 | 5 | 8 | 7
Latvia | 7 | 6 | 6 | 5 | 8 | 5
Lebanon |  | 10 |  | 5 | 7 | 8
Lesotho | 11 | 11 | 11 | 5 | 8 | 8
Liberia | 10 | 10 |  | 5 | 8 | 8
Libya |  | 7 | 7 | 5 |  | 8
Liechtenstein | 7 | 7 | 6 | 3 | 6 | 3
Lithuania | 6 | 6 | 7 | 5 | 8 | 5
Luxembourg | 7 | 7 | 6 | 3 | 3 | 3
Macao | 8 | 9 | 9 | 5 | 3 | 5
Macedonia, Republic of | 7 | 6 | 7 | 5 | 8 | 5
Madagascar | 10 | 11 | 11 | 5 | 8 | 8
Malawi | 10 | 11 | 11 | 5 | 8 | 8
Malaysia | 8 | 8 | 8 | 5 | 4 | 7
Maldives | 9 | 9 | 9 | 5 | 8 | 8
Mali | 10 | 10 | 11 | 5 | 8 | 8
Malta | 7 | 7 | 7 | 5 | 6 | 8
Marshall Islands ² | 13 | 14 | 13 | 6 |  | 3
Martinique | 12 | 13 | 12 | 5 | 3 | 6
Mauritania | 10 | 10 | 11 | 5 | 8 | 8
Mauritius | 10 | 10 | 10 | 5 | 8 | 8
Mexico | 2 | 2 | 2 | 2 | 2 | 2
Micronesia, Federated States of ² | 13 | 14 | 13 | 6 |  | 3
Moldova | 6 | 7 | 7 | 5 | 8 | 8
Mongolia | 9 | 9 | 9 | 5 | 8 | 7
Montserrat |  | 8 | 8 | 5 | 3 | 6
Morocco | 11 | 10 | 11 | 5 | 8 | 8
Mozambique | 10 | 11 | 11 | 5 | 8 | 8
Namibia | 11 | 11 | 11 | 5 | 8 | 8
Nauru | 8 | 8 | 8 | 5 |  | 7
Nepal | 8 | 9 | 9 | 5 | 8 | 7
Netherlands | 7 | 7 | 6 | 3 | 3 | 3
Netherlands Antilles | 12 | 12 | 12 | 5 | 3 | 6
New Caledonia | 9 | 9 | 9 | 5 | 5 | 7
New Zealand | 8 | 8 | 8 | 4 | 4 | 4
Nicaragua | 12 | 12 | 12 | 5 | 5 | 6
Niger | 10 | 10 | 10 | 5 | 8 | 8
Nigeria | 11 | 10 | 10 | 5 | 8 | 8
Norway | 7 | 7 | 6 | 3 | 6 | 3
Oman | 11 | 10 |  | 5 | 7 | 8
Pakistan | 8 | 9 | 8 | 5 | 7 | 8
Panama | 12 | 12 | 12 | 5 | 5 | 6
Papua New Guinea | 8 | 9 | 9 | 5 | 5 | 7
Paraguay | 12 | 13 | 12 | 5 | 5 | 6
Peru | 12 | 13 | 12 | 5 | 5 | 6
Philippines | 8 | 9 | 8 | 5 | 4 | 7
Pitcairn Island |  | 8 | 8 | 5 |  | 7
Poland | 6 | 6 | 6 | 5 | 8 | 5
Portugal | 7 | 7 | 7 | 3 | 6 | 3
Qatar | 11 | 10 |  | 5 | 7 | 8
Reunion |  | 13 | 12 | 5 | 8 | 8
Romania | 6 | 7 | 7 | 5 | 8 | 5
Russia | 7 | 7 | 7 | 5 | 8 | 5
Rwanda | 10 | 10 | 11 | 5 | 8 | 8
St. Christopher (St. Kitts) & Nevis | 12 | 12 | 12 | 5 | 3 | 6
Saint Helena |  | 11 | 11 | 5 |  | 8
Saint Lucia | 12 | 12 | 12 | 5 | 3 | 6
Saint Pierre & Miquelon |  | 6 | 6 | 5 |  | 6
Saint Vincent & Grenadines | 12 | 13 | 12 | 5 | 3 | 6
San Marino | 7 | 7 | 8 | 3 | 3 | 3
Sao Tome & Principe |  | 10 | 10 | 5 |  | 5
Saudi Arabia | 10 | 10 | 10 | 5 | 7 | 8
Senegal | 11 | 10 | 10 | 5 | 8 | 8
Serbia-Montenegro (Yugoslavia) | 7 | 7 | 7 | 5 | 8 | 5
Seychelles | 10 | 10 | 11 | 5 | 8 | 8
Sierra Leone | 10 | 10 |  | 5 |  | 8
Singapore | 8 | 8 | 8 | 5 | 3 | 7
Slovak Republic (Slovakia) | 7 | 7 | 6 | 5 | 8 | 5
Slovenia | 7 | 6 | 7 | 5 | 8 | 5
Solomon Islands | 8 | 8 | 8 | 5 |  | 7
Somalia | 10 | 10 | 10 | 5 |  | 8
South Africa | 11 | 11 | 10 | 5 | 8 | 8
Spain | 7 | 7 | 6 | 3 | 6 | 3
Sri Lanka | 8 | 9 | 8 | 5 | 7 | 8
Sudan | 10 | 11 | 11 | 5 |  | 8
Suriname |  | 12 | 12 | 5 | 5 | 6
Swaziland | 11 | 10 | 10 | 5 | 8 | 8
Sweden | 7 | 7 | 7 | 3 | 6 | 3
Switzerland | 7 | 7 | 6 | 3 | 6 | 3
Syrian Arab Republic (Syria) | 10 | 10 | 10 | 5 |  | 8
Taiwan | 8 | 9 | 8 | 5 | 3 | 7
Tajikistan | 7 | 6 | 6 | 5 |  | 8
Tanzania | 10 | 10 | 10 | 5 | 8 | 8
Thailand | 9 | 8 | 8 | 5 | 4 | 7
Togo | 11 | 10 | 10 | 5 | 8 | 8
Tonga |  | 8 | 8 | 5 |  | 7
Trinidad & Tobago | 12 | 12 | 12 | 5 | 3 | 6
Tristan da Cunha |  | 10 | 11 | 5 |  | 8
Tunisia | 11 | 10 | 10 | 5 | 8 | 8
Turkey | 10 | 10 | 10 | 5 | 7 | 5
Turkmenistan | 7 | 7 | 7 | 5 | 8 | 5
Turks & Caicos Islands |  | 12 | 12 | 5 | 3 | 6
Tuvalu |  | 8 | 8 | 5 | 8 | 7
Uganda | 10 | 10 | 11 | 5 | 8 | 8
Ukraine | 7 | 7 | 7 | 5 | 8 | 8
United Arab Emirates | 10 | 10 | 10 | 5 | 7 | 8
Uruguay | 12 | 13 | 12 | 5 | 5 | 6
Uzbekistan |  | 7 | 7 | 5 | 8 | 8
Vanuatu | 8 | 8 | 8 | 5 | 5 | 7
Vatican City | 7 | 7 | 6 | 3 | 3 | 3
Venezuela | 12 | 12 | 12 | 5 | 5 | 6
Vietnam | 8 | 9 | 8 | 5 | 4 | 7
Wallis & Futuna Islands |  | 9 | 9 | 5 | 4 | 7
Western Samoa | 8 | 8 | 8 | 5 |  | 7
Yemen | 10 | 10 | 11 | 5 | 7 | 8
Zambia | 10 | 10 | 11 | 5 | 8 | 8
Zimbabwe | 11 | 11 | 11 | 5 | 8 | 8
¹ ISAL service not available to all countries. See Individual Country Listings for availability.
² Rate groups appear in this table for Republic of the Marshall Islands and Federated States of Micronesia for EMS, Airmail Parcel Post, Economy Parcel Post, and Air Letter-post; see “International Mail: Republic of the Marshall Islands and Federated States of Micronesia” elsewhere in this issue of the Federal Register for corresponding rates.

Insurance
[In dollars]
Parcel post indemnity not over | Canada | All other countries
50 | 1.35 | 1.95
100 | 2.30 | 2.75
200 | 3.35 | 3.80
300 | 4.40 | 4.85
400 | 5.45 | 5.90
500 | 6.50 | 6.95
600 | 7.55 | 8.00
675 | 8.60 | N/A
700 | N/A | 9.05
Add'l Indemnity* | N/A | 1.05
*Each additional $100 or fraction. See individual country listings for maximum indemnity.

[In dollars]
Global express guaranteed indemnity not over (U.S. $) | All countries
100 | No fee.
Add'l Indemnity* | 0.75
*Each additional $100 or fraction. See individual country listings for maximum indemnity.

Special Services Fees
Description | Fee
International Postal Money Orders | $3.45
International Reply Coupons | 1.85
International Business Reply Card | 0.85
International Business Reply Envelope (up to 2 oz) | 1.25
Customs Clearance and Delivery Fee | 4.75
Certificate of Mailing | 0.95
Recorded Delivery | 2.40
Express Mail Merchandise Insurance over $100 | 1.05
Restricted Delivery | 3.70
Registered Mail | 7.90
Return Receipt | 1.85
Pickup Fee | 13.25

* * * * *

Neva R. Watson,
Attorney, Legislative.

[FR Doc. 05-23007 Filed 11-22-05; 8:45 am]

BILLING CODE 7710-12-P